DEPARTMENT OF JUSTICE

Antitrust Division

Notice Pursuant to the National Cooperative Research and Production Act of 1993—Southwest Research Institute (“SwRI”): Joint Industry Program—Development of an Instrument for Corrosion Detection in Insulated Pipes Using a Magnetostrictive Sensor

In Notice document 99-21560 appearing on page 45279 in the Federal Register issue of Thursday, August 19, 1999, make the following correction:

In the second column, heading of Notice, third line, “Southwest Research Institute (“SwRI”):” should be added before “Joint Industry Program”.

Constance K. Robinson,
Director of Operations, Antitrust Division.

[FR Doc. 00-17404 Filed 7-10-00; 8:45 am]

BILLING CODE 4410-11-M